DEPARTMENT OF HEALTH AND HUMAN SERVICES

Centers for Disease Control and Prevention

[60Day-25-25AF; Docket No. CDC-2024-0079]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled 2024 Marburg Traveler Monitoring Assessment. This information collection is intended to determine the number of travelers coming to the United States from Rwanda, where a Marburg outbreak is occurring, that are enrolled by jurisdictions into monitoring, if recommended, and the proportion of travelers that completed monitoring.

DATES: CDC must receive written comments on or before December 20, 2024.

ADDRESSES: You may submit comments, identified by Docket No. CDC-2024-0079 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

2024 Marburg Traveler Monitoring Assessment—New—National Center for Emerging and Zoonotic Infectious Diseases (NCEZID), Centers for Disease Control and Prevention (CDC).

Background and Brief Description

The Centers for Disease Control and Prevention (CDC), National Center for Emerging and Zoonotic Infectious Diseases (NCEZID), Division of Global Migration Health (DGMH) requests an Emergency approval for a New information collection. Section 361 of the Public Health Service (PHS) Act (42 U.S.C. 264) authorizes the Secretary of Health and Human Services to make and enforce regulations necessary to prevent the introduction, transmission or spread of communicable diseases from foreign countries into the United States. Under its delegated authority, DGMH works to fulfill this responsibility through a variety of activities, including the operation of Quarantine Stations at ports of entry and administration of foreign quarantine regulations; 42 Code of Federal Regulation part 71, specifically 42 CFR 71.20 Public health prevention measures to detect communicable disease. This information collection concerns CDC's statutory and regulatory authority related to conducting public health screening of travelers upon arrival to the United States and assessing individual travelers for public health risk following a report of illness from a conveyance.

The purpose of this information collection is to inform CDC and interagency decision makers on state/local health department activities related to travelers coming from areas affected by an Marburg outbreak originating in Rwanda. This information will be used to: (1) gather feedback from state and local health department partners on CDC's interim guidance and post-arrival management of travelers; (2) assess the quality of contact information provided to states by determining the proportion of travelers that state and local health departments were able to contact for recommended assessment and monitoring; and (3) inform the development of future guidance and recommendations for post-arrival traveler management during Marburg outbreaks abroad.

CDC collects international travelers' contact information under authorities in the Interim Final Rule: Control of Communicable Diseases: Foreign Quarantine and CDC's Order Requirement for Airlines and Operators to Collect and Transmit Designated Information for Passengers and Crew Arriving Into the United States; Requirement for Passengers to Provide Designated Information. Traveler contact information is sent to CDC though an existing data-sharing infrastructure in place between the United States Department of Homeland Security (DHS) and HHS/CDC and approved for in OMB Control Number 0920-1354. Contact information for travelers who have been to an area affected by the outbreak during the 21 days prior to arrival will be confirmed at the port of entry. CDC will share contact information for these travelers with state and local health departments so that they can do possible public health follow up, including public health assessment of exposure risk and monitoring for Marburg symptoms, and education to travelers. These public health interventions will help state and local health departments determine the appropriate level of follow needed based on the traveler's level of risk and rapidly identify any travelers with symptoms that could which travelers may need to be prioritized for more targeted public health measures, such as quarantine, due to a higher risk of exposure to Marburg.

CDC is currently sharing contact information and public health assessment of exposure risk to Marburg for travelers with state and local health departments through existing data-sharing infrastructure. State and local health departments utilize the contact information provided by CDC to prioritize and identify the level of follow up needed based on the level of risk of exposure to Marburg and determine additional if additional targeted public health measures are necessary. State/local health department partners are contacting travelers in order to determine if they are symptomatic and require additional screening for possible Marburg infection. The purpose of this evaluation will be to gather feedback from state and local health departments regarding traveler monitoring activities and determine the usability of contact information and public health risk assessment information shared by CDC. A one-time survey at the end of the response will collect information related to resources needed by health department for this response.

CDC requests OMB approval for an estimated 630 annual burden hours. There is no cost to respondents other than their time to participate.

Estimated Annualized Burden Hours
Type of respondents | Form name | Number of respondents | Number of responses per respondent | Average burden per response (in hours) | Total burden (in hours)
State/Local Health Department | CDC—Marburg Virus Disease Healthcare Worker Monitoring 2024 | 70 | 104 | 5/60 | 607
State/Local Health Department | MVD Final Survey_10.08.2024 | 70 | 1 | 20/60 | 23
Total |  |  |  |  | 630

Jeffrey M. Zirger,
Lead, Information Collection Review Office, Office of Public Health Ethics and Regulations, Office of Science, Centers for Disease Control and Prevention.

[FR Doc. 2024-24305 Filed 10-18-24; 8:45 am]

BILLING CODE 4163-18-P